DEPARTMENT OF THE INTERIOR

National Park Service

Rocky Mountain National Park, Colorado; Order Adjusting the Boundary of Rocky Mountain National Park To Include Certain Lands

SUMMARY: Pursuant to the authority contained in the Act of November 29, 1989, 103 Stat. 1700, 16 U.S.C. Sec. 192b-10, and as certain lands authorized for acquisition by the Secretary of the Interior have now been acquired, the boundaries of Rocky Mountain National Park are being adjusted accordingly.

DATES: Effective February 15, 2001.

SUPPLEMENTARY INFORMATION: The above cited Act authorizes the Secretary of the Interior to acquire certain lands adjacent to Rocky Mountain National Park and, upon acquisition, to adjust the park boundary to include such lands within the park. The total acreage of Rocky Mountain National Park will be increased by 5.14 acres by this boundary adjustment.

Subject to valid existing rights, the following described lands are hereby added to Rocky Mountain National Park to be administered in accordance with the laws and regulations applicable thereto:

Township 4 North, Range 73 West, 6th Principal Meridian, Larimer County, Colorado;

Lot 4, Baldpate Estates, according to the plat thereof recorded April 3, 1986, at Reception No. 86016631;

Contains 5.14 acres, more or less.

FOR FURTHER INFORMATION CONTACT: Chief, Land Resources Program Center, Intermountain Region, P.O. Box 728, Santa Fe, New Mexico 87504-0728.

Dated: December 20, 2000.
Karen P. Wade,
Regional Director, Intermountain Region, National Park Service.

[FR Doc. 01-4011 Filed 2-15-01; 8:45 am]

BILLING CODE 4310-70-P